DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates: 8:30 a.m.-4 p.m., March 13, 2003. 8:30 a.m.-11:45 a.m., March 14, 2003.

Place: Doubletree Hotel Atlanta/Buckhead, 3342 Peachtree Road, NE., Atlanta, Georgia 30326, telephone 404/231-1234, fax 404/231-3112.

Status: Open to the public, limited only by the space available. The meeting room accommodates approximately 65 people.

Purpose: The Secretary is authorized by the Public Health Service Act, Section 399G, (42 U.S.C. Section 280f, as added by Public Law 105-392) to establish a National Task Force on Fetal Alcohol Syndrome and Fetal Alcohol Effect to:

(1) Foster coordination among all governmental agencies, academic bodies and community groups that conduct or support Fetal Alcohol Syndrome (FAS) and Fetal Alcohol Effect (FAE) research, programs and surveillance; and (2) to otherwise meet the general needs of populations actually or potentially impacted by FAS and FAE.

Matters to Be Discussed: Agenda items include: an update from the National Center on Birth Defects and Developmental Disabilities Scientific Working Group on Diagnostic Guidelines for FAS and Alcohol-Related Neurodevelopmental Disabilities (ARND); an update on activities from the Interagency Coordinating Committee on Fetal Alcohol Syndrome; new research and program updates from the CDC and other Federal agencies; and working group updates. Additional agenda items include: task force discussions on the use of the term fetal alcohol spectrum disorders: What is it? When is it appropriate to use it?; provider education and FAS prevention; development of a clear message for pediatricians, nurses, and other providers: how the FAS diagnosis will benefit the child and family; future topics, and scheduling the next meeting.

Agenda items are subject to change as priorities dictate.

CONTACT PERSON FOR MORE INFORMATION: R. Louise Floyd, DSN, RN, Designated Federal Official, National Center on Birth Defects and Developmental Disabilities, CDC, 4700 Buford Highway, NE, (F-49), Atlanta, Georgia 30333, telephone 770/488-7372, fax 770/488-7361.

The Director, Management Analysis and Services Office, has been delegated the authority to sign Federal Register notices pertaining to announcements of meetings and other committee management activities for both the CDC and ATSDR.

Dated: February 13, 2003.
Joseph E. Salter,
Acting Director, Management Analysis and Services Office, Centers for Disease Control and Prevention.

[FR Doc. 03-4060 Filed 2-20-03; 8:45 am]

BILLING CODE 4163-18-P